DEPARTMENT OF COMMERCE

National Oceanic and Atmospheric Administration

[I.D. 050203B]

Endangered and Threatened Species; Take of Anadromous Fish

AGENCY: National Marine Fisheries Service (NMFS), National Oceanic and Atmospheric Administration (NOAA), Commerce.

ACTION: Receipt of an application to modify an existing scientific research/enhancement permit (1097) and request for comment.

SUMMARY: Notice is hereby given that NMFS has received an application for a permit modification from Cressey and Associates in El Cerrito, CA (1097). The permit modification would affect three Evolutionarily Significant Units (ESUs) of salmonids identified in Supplementary Information following. This document serves to notify the public of the availability of the permit modification application for review and comment before a final approval or disapproval is made by NMFS.

DATES: Written comments on the permit application must be received no later than 5 p.m. Pacific Standard Time on June 12, 2003.

ADDRESSES: Written comments on the modification request should be sent to Daniel Logan, Protected Species Division, NMFS, 777 Sonoma Avenue, Room 325, Santa Rosa, CA 95404 6528 (ph: 707 575 6053, fax: 707 578 3435). Comments may also be sent via fax. Comments will not be accepted if submitted via e-mail or the Internet. The applications and related documents are available for review by appointment at the Protected Species Division, NMFS, 777 Sonoma Avenue, Room 325, Santa Rosa, CA 95404 6528 (ph: 707 575 6053, fax: 707 578 3435) and at the Office of Protected Resources, F/PR3, NMFS, 1315 East-West Highway, Silver Spring, MD 20910 3226 (301 713 1401).

FOR FURTHER INFORMATION CONTACT: Daniel Logan at phone number 707-575-6053, or e-mail: dan.logan@noaa.gov.

SUPPLEMENTARY INFORMATION:

Authority

Issuance of permits and permit modifications, as required by the Endangered Species Act of 1973 (16 U.S.C. 1531 1543) (ESA), is based on a finding that such permits/modifications: (1) are applied for in good faith; (2) would not operate to the disadvantage of the listed species which are the subject of the permits; and (3) are consistent with the purposes and policies set forth in section 2 of the ESA. Authority to take listed species is subject to conditions set forth in the permits. Permits and modifications are issued in accordance with and are subject to the ESA and NMFS regulations governing listed fish and wildlife permits (50 CFR parts 222 226).Those individuals requesting a hearing on an application listed in this notice should set out the specific reasons why a hearing on that application would be appropriate (see ADDRESSES). The holding of such a hearing is at the discretion of the Assistant Administrator for Fisheries, NOAA. All statements and opinions contained in the permit action summaries are those of the applicant and do not necessarily reflect the views of NMFS.

Species Covered in This Notice

This notice is relevant to the following three threatened salmonid ESUs: threatened Central California Coast (CCC) coho salmon (Oncorhynchus kisutch), threatened CCC steelhead (O. mykiss), and threatened California Coastal chinook salmon (O. tshawytscha).

Modification Request Received

Cressey and Associates requests a modification to permit 1097 for takes of juvenile ESA-listed coho salmon, steelhead, and chinook salmon associated with a study assessing the impacts to salmonids of a proposed summer dam on Austin Creek, a tributary of the Russian River in Sonoma County, CA. Cressey and Associates has proposed using electrofishing and snorkel surveys. Cressey and Associates is requesting non-lethal take of 10 juvenile CCC coho salmon, 500 juvenile CCC steelhead and 5 juvenile California Coastal chinook salmon for this project. Presently, permit 1097 authorizes take of adult and juvenile CCC coho salmon, Southern Oregon/Northern California Coasts coho salmon, and Southern California steelhead associated with various scientific research projects in CA. This requested modification would add intentional takes of threatened CCC coho salmon, threatened CCC steelhead, and threatened California Coastal chinook salmon to Cressey and Associates' permit.

Dated: May 8. 2003.
Susan Pultz,
Acting Chief, Endangered Species Division, Office of Protected Resources, National Marine Fisheries Service.

[FR Doc. 03-11915 Filed 5-12-03; 8:45 am]

BILLING CODE 3510-22-S